DEPARTMENT OF HOMELAND SECURITY

8 CFR Part 212

[CIS No. 2780-24; DHS Docket No. USCIS-2009-0022]

RIN 1615-AB83

Immigration Benefits Business Transformation, Increment I; Corrections

AGENCY: U.S. Citizenship and Immigration Services (USCIS), Department of Homeland Security (DHS).

ACTION: Final rule; correcting amendments.

SUMMARY: On August 29, 2011, the Department of Homeland Security published a final rule titled “Immigration Benefits Business Transformation, Increment I,” which, in part, amended DHS regulations to remove references to form numbers and titles. Two of the amendatory instructions were inadvertently not followed, resulting in errors in the Code of Federal Regulations (CFR). This document describes those errors and corrects the CFR to incorporate the amendments as instructed in the 2011 final rule. This action makes no substantive regulatory changes.

DATES: August 9, 2024.

FOR FURTHER INFORMATION CONTACT: Samantha Deshommes, Chief, Regulatory Coordination Division, Office of Policy and Strategy, U.S. Citizenship and Immigration Services, Department of Homeland Security, 5900 Capital Gateway Drive, Camp Springs, MD 20746; telephone 240-721-3000 (this is not a toll-free number).

SUPPLEMENTARY INFORMATION:

The Immigration Benefits Business Transformation, Increment I final rule ¹ included two amendments to 8 CFR 212.2 that were incorrectly incorporated into the CFR. Specifically, the instruction numbered 64 stated that 8 CFR 212.2 would be amended to revise the term “the Form I-212” or “Form I-212” to read as “the application” wherever it appeared in the listed paragraphs, including paragraph (f) and paragraph (i)(2).² However, the resulting amendments to the CFR were incomplete, as described in the following paragraphs.

¹ See 76 FR 53764 (Aug. 29, 2011); see also 76 FR 73475 (Nov. 29, 2011) (making correcting amendments); 78 FR 22770 (Apr. 17, 2013) (same).

² See 76 FR at 53786. “Form I-212” refers to Form I-212, Application for Permission to Reapply for Admission into the United States After Deportation or Removal.

In accordance with these instructions, the sentence in former 8 CFR 212.2(f) that read, “The alien must file the Form I-212, where required, with the DHS officer having jurisdiction over the port of entry,” ³ should have been revised to read, “The alien must file the application, where required, with the DHS officer having jurisdiction over the port of entry.” However, 8 CFR 212.2(f) was erroneously amended to remove “Form I-212” without incorporating “application.” As a result, the current provision has a blank space and reads, “The alien must file the, where required, with the DHS officer having jurisdiction over the port of entry.” ⁴

³ See 8 CFR 212.2(f) (2011).

⁴ See 8 CFR 212.2(f).

The instructions also sought to amend 8 CFR 212.2(i)(2) by replacing “Form I-212” with “the application” in the two instances in which it appeared in that paragraph.⁵ However, only one instance was amended, resulting in the provision now reading, “If the alien filed Form I-212 in conjunction with an application for adjustment of status under section 245 of the Act, the approval of the application shall be retroactive to the date on which the alien embarked or reembarked at a place outside the United States.” ⁶

⁵ See 8 CFR 212.2(i)(2) (2011).

⁶ See 8 CFR 212.2(i)(2).

This document corrects these errors in the CFR.

DHS has good cause to bypass any notice-and-comment or delayed effective date procedures that might otherwise apply to this document under the Administrative Procedure Act. DHS has for good cause found that such procedures would be unnecessary, see 5 U.S.C. 553(b)(B), (d), because this rule merely corrects typographical errors in the CFR.

List of Subjects in 8 CFR Part 212

Administrative practice and procedure, Aliens, Immigration, Passports and visas, Reporting and recordkeeping requirements.

Accordingly, for the reasons set forth in the preamble, 8 CFR part 212 is amended as follows:

PART 212—DOCUMENTARY REQUIREMENTS: NONIMMIGRANTS; WAIVERS; ADMISSION OF CERTAIN INADMISSIBLE ALIENS; PAROLE

1. The authority citation for part 212 continues to read as follows:

Authority: 6 U.S.C. 111, 202(4) and 271; 8 U.S.C. 1101 and note, 1102, 1103, 1182 and note, 1184, 1185 note (sec. 7209, Pub. L. 108-458, 118 Stat. 3638), 1187, 1223, 1225, 1226, 1227, 1255, 1359; 8 CFR part 2. Section 212.1(q) also issued under sec. 702, Pub. L. 110-229, 122 Stat. 754, 854.

Section 212.1(q) also issued under section 702, Public Law 110-229, 122 Stat. 754, 854.

2. Amend § 212.2 by revising the last sentence in paragraph (f) and paragraph (i)(2). The revisions read as follows:

§ 212.2 Consent to reapply for admission after deportation, removal or departure at Government expense.

* * * * *

(f) * * * The alien must file the application, where required, with the DHS officer having jurisdiction over the port of entry.

* * * * *

(i) * * *

(2) If the alien filed the application in conjunction with an application for adjustment of status under section 245 of the Act, the approval of the application shall be retroactive to the date on which the alien embarked or reembarked at a place outside the United States.

* * * * *

Christina E. McDonald,
Associate General Counsel for Regulatory Affairs, U.S. Department of Homeland Security.

[FR Doc. 2024-17400 Filed 8-8-24; 8:45 am]

BILLING CODE 9111-97-P